DEPARTMENT OF HEALTH AND HUMAN SERVICES

National Institutes of Health

National Institute of Dental & Craniofacial Research; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Dental and Craniofacial Research Special Emphasis Panel NIDCR Establishing Outcome Measures for Clinical Studies of Oral and Craniofacial Diseases and Conditions Review SEP.

Date: February 18, 2015.

Time: 11:00 a.m. to 2:00 p.m.

Agenda: To review and evaluate grant applications.

Place: National Institutes of Health, One Democracy Plaza, 6701 Democracy Boulevard, Bethesda, MD 20892.

Contact Person: Jayalakshmi Raman, Ph.D., Scientific Review Officer, Scientific Review Branch, National Institute of Dental and Craniofacial Research, One Democracy Plaza, Room 670, Bethesda, MD 20892-4878, 301-594-2904, ramanj@mail.nih.gov.

Name of Committee:

Date: NIDCR Special Grants Review Committee February 19-20, 2015.

Time: 8:00 a.m. to 12:00 p.m.

Agenda: To review and evaluate grant applications.

Place: Hotel Palomar, 2121 P Street NW., Washington, DC 20037.

Contact Person: Marilyn Moore-Hoon, Ph.D., Scientific Review Officer, Scientific Review Branch, National Institute of Dental and Craniofacial Research, 6701 Democracy Blvd., Rm. 676, Bethesda, MD 20892-4878, 301-594-4861, mooremar@nidcr.nih.gov.

Name of Committee: National Institute of Dental and Craniofacial Research Special Emphasis Panel NIDCR Secondary Data R03 Review Panel.

Date: February 27, 2015.

Time: 9:00 a.m. to 3:00 p.m.

Agenda: To review and evaluate grant applications.

Place: National Institutes of Health, One Democracy Plaza, 6701 Democracy Boulevard, Bethesda, MD 20892.

Contact Person: Jayalakshmi Raman, Ph.D., Scientific Review Officer, Scientific Review Branch, National Institute of Dental and Craniofacial Research, One Democracy Plaza, Room 670 Bethesda, MD 20892-4878, 301-594-2904, ramanj@mail.nih.gov.

Name of Committee: National Institute of Dental and Craniofacial Research Special Emphasis Panel HIV and Oral Opportunistic Pathogens.

Date: March 3, 2015.

Time: 8:00 a.m. to 5:00 p.m.

Agenda: To review and evaluate grant applications.

Place: National Institutes of Health, One Democracy Plaza, 6701 Democracy Boulevard, Bethesda, MD 20892.

Contact Person: Raj K. Krishnaraju, Ph.D., MS, Scientific Review Branch, National Institute of Dental & Craniofacial Research, National Institutes of Health, 6701 Democracy Blvd., Room: 674 (Courier MD 20817), BETHESDA, MD 20892, 301-594-4864, kkrishna@nidcr.nih.gov.

Name of Committee: National Institute of Dental and Craniofacial Research Special Emphasis Panel RFA Next-Gen Rapid Testing and Point-of-Care Diagnosis for Oral Pathogens SBIR/STTR Application Review.

Date: March 4, 2015.

Time: 8:00 a.m. to 4:00 p.m.

Agenda: To review and evaluate grant applications.

Place: National Institutes of Health, Room 602, 6701 Rockledge Drive, Bethesda, MD 20892.

Contact Person: Jayalakshmi Raman, Ph.D., Scientific Review Officer, Scientific Review Branch, National Institute of Dental and Craniofacial Research, One Democracy Plaza, Room 670, Bethesda, MD 20892-4878, 301-594-2904, ramanj@mail.nih.gov.

Name of Committee: National Institute of Dental and Craniofacial Research Special Emphasis Panel, Clinical Trial Planning and Implementation.

Date: March 17, 2015.

Time: 8:00 a.m. to 4:00 p.m.

Agenda: To review and evaluate grant applications.

Place: National Institutes of Health, One Democracy Plaza, 6701 Democracy Boulevard, Bethesda, MD 20892.

Contact Person: SAVVAS C MAKRIDES, Ph.D. Scientific Review Officer, Scientific Review Branch, National Institute of Dental and Craniofacial Research , National Institutes of Health, 6701 Democracy Boulevard, Suite 672, BETHESDA, MD 20892, 301-594-4859, makridessc@mail.nih.gov.

(Catalogue of Federal Domestic Assistance Program Nos. 93.121, Oral Diseases and Disorders Research, National Institutes of Health, HHS)

Dated: January 8, 2015.
Melanie J. Gray,
Program Analyst, Office of Federal Advisory Committee Policy.

[FR Doc. 2015-00498 Filed 1-14-15; 8:45 am]

BILLING CODE 4140-01-P